FEDERAL ELECTION COMMISSION

Sunshine Act Meetings

FEDERAL REGISTER CITATION NOTICE OF PREVIOUS ANNOUNCEMENT: 88 FR 3412.

PREVIOUSLY ANNOUNCED TIME AND DATE OF THE MEETING: Tuesday, January 24, 2023 at 10:30 a.m. and its continuation at the conclusion of the open meeting on January 26, 2023.

CHANGES IN THE MEETING: The meeting also discussed:

Matters relating to internal personnel decisions, or internal rules and practices.

CONTACT FOR MORE INFORMATION: Judith Ingram, Press Officer, Telephone: (202) 694-1220.

(Authority: Government in the Sunshine Act, 5 U.S.C. 552b).

Vicktoria J. Allen,
Acting Deputy Secretary of the Commission.

[FR Doc. 2023-02076 Filed 1-27-23; 11:15 am]

BILLING CODE 6715-01-P